POSTAL SERVICE

39 CFR Part 265

Release of Information

AGENCY: Postal Service.

ACTION: Proposed rule.

SUMMARY: This proposed rule changes the procedures for the release of information about holders of postage meter licenses. The procedures are necessary to ensure individual privacy while providing for the release of information needed for customer protection.

DATES: The Postal Service must receive your comments on or before June 10, 2002.

ADDRESSES: Mail or deliver written comments to the manager, Postage Technology Management, 1735 N Lynn Street, Room 5011, Arlington, Virginia 22209-6050. You can view and copy all written comments at the same address between 9 a.m. and 4 p.m., Monday through Friday.

FOR FURTHER INFORMATION CONTACT: Wayne Wilkerson, 703-292-3782, or by fax, 703-292-4050.

SUPPLEMENTARY INFORMATION: The current regulation that provides for the release of the name and address of a holder of a postage meter permit or license was adopted for consumer protection reasons at a time when postage meters were used almost exclusively by businesses or firms. Circumstances have changed, however, and individuals now hold meter licenses as well. The new procedures for releasing the name and address of a particular holder of a postage meter license will ensure that legitimate expectations of individual privacy are met, while providing for the release of information needed for consumer protection. The new procedures remove the processing of requests for information about meter license holders from field locations and enables Postage Technology Management at Postal Service Headquarters to ensure that information is released appropriately. The current regulation refers to information on a postage meter “permit.” There is no “permit” to use a postage meter issued by the Postal Service. The Postal Service issues postage meter licenses to postage meter users. The amendment revises the terminology to reflect correct usage. Since the possession of leased postage meters can change over time, the Postal Service is requesting that the original or a photocopy of the envelope or wrapper bearing the relevant postage meter indicium be submitted with the request for information to validate the accuracy of the request and to ensure that the correct meter license holder is identified. The Postal Service is requesting that a copy or description of the contents of the mailpiece also be submitted to support that the sender is a business or firm and not an individual.

List of Subjects in 39 CFR Part 265

Administrative practice and procedure, Postal Service.

The Amendment

For the reasons set out in this document, the Postal Service is amending 39 CFR part 265 as follows:

PART 265—RELEASE OF INFORMATION

1. The authority citation for 39 CFR part 265 continues to read as follows:

Authority: 5 U.S.C. 552; 5 U.S.C. App. 3, 39 U.S.C. 401, 403, 410, 1001, 2601.

2. Amend § 265.6 by revising paragraphs (d) introductory text and (d)(2); by redesignating paragraphs (d)(3) through (d)(8) as paragraphs (d)(4) through (d)(9), respectively; and by adding a new paragraph (d)(3) to read as follows:

§ 265.6 Availability of Records.

* * * * *

(d) Disclosure of names and addresses of customers. Upon request, the names and addresses of specifically identified postal customers will be made available only as follows:

* * * * *

(2) Name and address of permit holder. The name and address of the holder of a particular bulk mail permit, permit imprint or similar permit (but not including postage meter licenses), and the name of any person applying for a permit in behalf of a holder, will be furnished to any person upon the payment of any fees authorized by paragraph (b) of § 265.9. For the name and address of a postage meter license holder, see paragraph (d)(3) of this section. (Lists of permit holders may not be disclosed to members of the public. See paragraph (e)(1) of this section.)

(3) Name and address of postage meter license holder. The name and address of the holder of a postage meter license authorizing use of a postage meter printing a specified indicium, will be furnished to any person upon the payment of any fees authorized by paragraph (b) of § 265.9, provided the holder is using the license for a business or firm. The request for this information must be sent to the manager of Postage Technology Management, Postal Service Headquarters. The request must include the original or a photocopy of the envelope or wrapper on which the meter indicium in question is printed, and a copy or description of the contents to support that the sender is a business or firm and not an individual. (Lists of postage meter license holders may not be disclosed to members of the public. See paragraph (e)(1) of this section.)

* * * * *

Stanley F. Mires,
Chief Counsel, Legislative.

[FR Doc. 02-11507 Filed 5-8-02; 8:45 am]

BILLING CODE 7710-12-P